DEPARTMENT OF JUSTICE

[OMB Number 1110-0026]

Agency Information Collection Activities; Proposed eCollection eComments Requested; Revision of a Previously Approved Collection; Federal Firearms Licensee (FFL) Enrollment/National Instant Criminal Background Check System (NICS) E-Check Enrollment Form, Federal Firearms Licensee (FFL) Officer/Employee Acknowledgment of Responsibilities Under the NICS Form, Responsibilities of a Federal Firearms Licensee (FFL) Under the National Instant Criminal Background Check System (NICS) Form

AGENCY: Criminal Justice Information Services (CJIS) Division, Federal Bureau of Investigation (FBI), Department of Justice.

ACTION: 30-Day notice.

SUMMARY: The CJIS Division, FBI, Department of Justice (DOJ), will be submitting the following information collection request to the Office of Management and Budget (OMB) for review and approval in accordance with the Paperwork Reduction Act of 1995.

DATES: Comments are encouraged and will be accepted for 30 days until October 16, 2025.

FOR FURTHER INFORMATION CONTACT: The proposed information collection was previously published in the Federal Register on 07/24/2025, allowing a 60-day comment period. If you have comments especially on the estimated public burden or associated response time, suggestions, or need a copy of the proposed information collection instrument with instructions or additional information, please contact: Jill Montgomery, FBI NICS Section, 1000 Custer Hollow Road, Clarksburg, WV 26306, or jamontgomery@fbi.gov, 304-709-1476.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1110-0026. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Abstract: The Brady Handgun Violence Prevention Act of 1993 required the United States Attorney General to establish a National Instant Criminal Background Check System (NICS) that any Federal Firearms Licensee (FFL) may contact, by telephone or other electronic means, for information to be supplied immediately on whether receipt of a firearm by a prospective purchaser would violate State or Federal law. Information pertaining to FFLs who may contact the NICS is collected to manage and control access to the NICS and to the NICS E-Check, to ensure appropriate resources are available to support the NICS, and to ensure the privacy and security of NICS information. For more information regarding the NICS, please visit https://www.fbi.gov/services/cjis/nics. The proposed 2025 revision to the form captures four new fields. The first two fields ask for the FFL's date of birth and mother's maiden name for security measures. An additional question is asked if an FFL operates in a point of contact (POC) state. If the FFL answers in the affirmative, the FFL is asked to initial to acknowledge use of the FBI NICS for authorized purposes only so they may avail themselves of the additional resources for FFLs from POC states as they become available.

Overview of This Information Collection

1. Type of Information Collection: Revision of a previously approved collection.

2. Title of the Form/Collection: Federal Firearms Licensee (FFL) Enrollment/National Instant Criminal Background Check System (NICS) E-Check Enrollment Form, Federal Firearms Licensee (FFL) Officer/Employee Acknowledgment of Responsibilities under the NICS Form, Responsibilities of a Federal Firearms Licensee (FFL) under the National Instant Criminal Background Check System (NICS) Form.

3. Agency form number, if any, and the applicable component of the Department of Justice sponsoring the collection: 1110-0026, FBI.

4. Affected public who will be asked or required to respond, as well as a brief abstract: Affected Public: Any Federal Firearms Licensee (FFL) or Point of Contact (POC) State requesting access to conduct National Instant Criminal Background Check System (NICS) checks telephonically or by the internet through the NICS E-Check. The Brady Handgun Violence Prevention Act of 1993 required the United States Attorney General to establish a National Instant Criminal Background Check System (NICS) that any Federal Firearms Licensee (FFL) may contact, by telephone or other electronic means, for information to be supplied immediately on whether receipt of a firearm by a prospective purchaser would violate State or Federal law. Information pertaining to FFLs who may contact the NICS is collected to manage and control access to the NICS and to the NICS E-Check, to ensure appropriate resources are available to support the NICS, and to ensure the privacy and security of NICS information. For more information regarding the NICS, please visit https://www.fbi.gov/services/cjis/nics. The proposed 2025 revision to the form captures four new fields. The first two fields ask for the FFL's date of birth and mother's maiden name for security measures. An additional question is asked if an FFL operates in a point of contact (POC) state. If the FFL answers in the affirmative, the FFL is asked to initial to acknowledge use of the FBI NICS for authorized purposes only so they may avail themselves of the additional resources for FFLs from POC states as they become available.

5. Obligation to Respond: The obligation to respond is required in order to obtain/the ability to utilize the NICS system to conduct background checks.

6. Total Estimated Number of Respondents: 6,160.

7. Estimated Time per Respondent: 15 minutes.

8. Frequency: Once.

9. Total Estimated Annual Time Burden: 1,540 hours.

10. Total Estimated Annual Other Costs Burden: $0.

If additional information is required, contact: Darwin Arceo, Department Clearance Officer, Policy and Planning Staff, Justice Management Division, United States Department of Justice, Two Constitution Square, 145 N Street NE, 4W-218 Washington, DC 20530.

Dated: September 11, 2025.
Darwin Arceo,
Department Clearance Officer for PRA, U.S. Department of Justice.

[FR Doc. 2025-17790 Filed 9-15-25; 8:45 am]

BILLING CODE 4410-02-P